DEPARTMENT OF THE INTERIOR

Minerals Management Service

Notice of Availability of the Proposed Notice of Sale for Outer Continental Shelf (OCS) Oil and Gas Lease Sale 204 in the Western Gulf of Mexico (GOM)

AGENCY: Minerals Management Service, Interior.

ACTION: Notice of availability of the proposed Notice of Sale for proposed Sale 204.

SUMMARY: The MMS announces the availability of the proposed Notice of Sale for proposed Sale 204 in the Western GOM OCS. This Notice is published pursuant to 30 CFR 256.29(c) as a matter of information to the public. With regard to oil and gas leasing on the OCS, the Secretary of the Interior, pursuant to section 19 of the OCS Lands Act, provides the affected States the opportunity to review the proposed Notice. The proposed Notice sets forth the proposed terms and conditions of the sale, including minimum bids, royalty rates, and rentals.

DATES: Comments on the size, timing, or location of proposed Sale 204 are due from the affected States within 60 days following their receipt of the proposed Notice. The final Notice of Sale will be published in the Federal Register at least 30 days prior to the date of bid opening. Bid opening is currently scheduled for August 22, 2007.

SUPPLEMENTARY INFORMATION: The proposed Notice of Sale for Sale 204 and a “Proposed Sale Notice Package” containing information essential to potential bidders may be obtained from the Public Information Unit, Gulf of Mexico Region, Minerals Management Service, 1201 Elmwood Park Boulevard, New Orleans, Louisiana 70123-2394. Telephone: (504) 736-2519.

Dated: April 6, 2007.
R. M. “Johnnie” Burton,
Director, Minerals Management Service.

[FR Doc. 07-1804 Filed 4-10-07; 8:45 am]

BILLING CODE 4310-MR-M